DEPARTMENT OF ENERGY

Federal Energy Regulatory Commission

[Docket No. CP02-1-000]

Southern Natural Gas Company; Notice of Application

October 11, 2001.

Take notice that on October 1, 2001, Southern Natural Gas Company (Southern), Post Office Box 2563, Birmingham, Alabama 35202-2563, filed in Docket No. CP02-1-000, an application pursuant to Section 7(b) and 7(c) of the Natural Gas Act (NGA) and part 157 of the Federal Energy Regulatory Commission's Regulations (Commission), for authorization to abandon certain compression facilities and for a certificate of public convenience and necessity authorizing the construction, installation and operation of certain pipeline, compression, measurement, interconnection and appurtenant facilities in Louisiana, Mississippi, Alabama, and Georgia, all as more fully set forth in the application which is on file with the Commission and open to public inspection. Copies of this filing are on file with the Commission and are available for public inspection. This filing may also be viewed on the Web at http://www.ferc.gov using the “RIMS” link, select “Docket #” and follow the instructions (call 202-208-2222 for assistance).

Southern states that it proposes a significant expansion of its pipeline system. According to Southern, eight shippers have entered into firm transportation service agreements for a total of 359,891 Mcf per day of Transportation Demand and that a small amount of this new service has been contracted for by a municipal gas system and two industrial end users connected directly to Southern's system. Southern states that the vast majority of the new service, however, will be used to serve existing, new, and expanded gas-fired electric generation facilities. Southern states that all eight shippers have executed a new or amended service agreement providing for an initial term of 15 years for their new Transportation Demands.

Southern states that to provide the capacity for these new transportation services, Southern proposes to construct, install, and operate approximately 123 miles of loop pipeline and 76,930 horsepower of compression. Southern states that a portion of the new horsepower will replace seven existing compressor units at two compressor stations that have become physically deteriorated and/or obsolete to the extent that their replacement is deemed necessary to insure the safe, reliable, and efficient operation of Southern's pipeline system. Accordingly, the loop pipeline will be added at twelve locations on Southern's South System and will be 99.8 percent co-located within and along Southern's existing rights-of-way. Southern states that the construction will be undertaken in two phases, with a target in-service date for Phase I of June 1, 2003, and for Phase II of May 1, 2004, and Southern estimates the total cost of the proposed facilities to be $245.5 million.

Any questions regarding this application should be directed to R. David Hendrickson, Associate General Counsel, at (205) 325-7114, Southern Natural Gas Company, Post Office Box 2563, Birmingham, Alabama 35202-2563.

There are two ways to become involved in the Commission's review of this project. First, any person wishing to obtain legal status by becoming a party to the proceedings for this project should, on or before November 1, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-26102 Filed 10-16-01; 8:45 am]

BILLING CODE 6717-01-P